DEPARTMENT OF ENERGY

Federal Energy Regulatory Commission

[Project No. 13254-001]

Castle Creek Hydroelectric Project; Notice of Preliminary Permit Application Accepted for Filing and Soliciting Comments, Motions To Intervene, and Competing Applications

On November 1, 2011, the City of Aspen, Colorado, filed an application for a successive preliminary permit, pursuant to section 4(f) of the Federal Power Act (FPA), proposing to study the feasibility of the Castle Creek Hydroelectric Project to be located on Castle Creek, near the town of Aspen, Pitkin County, Colorado. The project would affect federal lands administered by the Forest Service. The sole purpose of a preliminary permit, if issued, is to grant the permit holder priority to file a license application during the permit term. A preliminary permit does not authorize the permit holder to perform any land-disturbing activities or otherwise enter upon lands or waters owned by others without the owners' express permission.

The proposed project would consist of the existing Thomas reservoir, Castle Creek and Maroon Creek diversions, a recently constructed penstock, and a 25-kilovolt transmission line. The reservoir, formed by a 13-foot-high upstream heel and 30-foot-high downstream toe, has a total storage capacity of 15 acre-feet and a water surface area of 0.6 acre at full pool elevation of 8,175 feet above mean sea level. The penstock consists of a 42-inch-diameter, 4,000-foot-long pipeline connecting the reservoir to the proposed powerhouse.

The proposed powerhouse would be located adjacent to the original hydroelectric plant, with a single shaft Pelton turbine, producing 1.175 megawatts of generating capacity. The annual energy output would be approximately 7.7 gigawatthours.

Applicant Contact: David Hornbacher, The City of Aspen, 130 South Galena Street, Aspen, CO 81611; phone (970) 429-1983.

FERC Contact: Brian Csernak; phone: (202) 502-6144.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13254-001) in the docket number field to access the document. For assistance, contact FERC Online Support.

Dated: November 25, 2011.
Kimberly D. Bose,
Secretary.

[FR Doc. 2011-30972 Filed 12-1-11; 8:45 am]

BILLING CODE 6717-01-P